DEPARTMENT OF TRANSPORTATION

Surface Transportation Board

[Docket No. FD 35986]

Connex Railroad LLC—Lease and Operation Exemption—Line of Buzzi Unicem USA in College Park, Ga.

Connex Railroad LLC (Connex), a noncarrier, has filed a verified notice of exemption under 49 CFR 1150.31 to lease from noncarrier Buzzi Unicem USA (Buzzi), operate, and maintain approximately 1,500 feet of railroad track located in College Park, Ga. (the Line). Connex states that the Line crosses West Point Avenue and connects to a CSX Transportation, Inc., mainline track in College Park, Ga., at milepost 12 of the CSX Old Atlanta West Point Subdivision. According to Connex, there are no mileposts associated with the Line, but it is identified as Buzzi Unicem Track ID XXB012.

Connex states that the proposed transaction does not involve any provision or agreement that would limit Connex's ability to interchange with a third party.

The transaction may be consummated on or after January 21, 2016, the effective date of the exemption (30 days after the verified notice of exemption was filed).

Connex certifies that the projected annual revenues do not exceed those that would qualify it as a Class III rail carrier and will not exceed $5 million.

If the notice contains false or misleading information, the exemption is void ab initio. Petitions to revoke the exemption under 49 U.S.C. 10502(d) may be filed at any time. The filing of a petition to revoke will not automatically stay the effectiveness of the exemption. Petitions for stay must be filed no later than January 14, 2016 (at least seven days before the exemption becomes effective).

An original and 10 copies of all pleadings, referring to Docket No. FD 35986, must be filed with the Surface Transportation Board, 395 E Street SW., Washington, DC 20423-0001. In addition, one copy of each pleading must be served on David H. Coburn, Steptoe & Johnson LLP, 1330 Connecticut Avenue NW., Washington, DC 20036.

Board decisions and notices are available at our Web site at www.stb.dot.gov.

Decided: December 29, 2015.
By the Board, Scott M. Zimmerman, Acting Director, Office of Proceedings.
Raina S. Contee,
Clearance Clerk.

[FR Doc. 2016-00046 Filed 1-6-16; 8:45 am]

BILLING CODE 4915-01-P